DEPARTMENT OF HEALTH AND HUMAN SERVICES

National Institutes of Health

National Institute of Neurological Disorders and Stroke; Amended Notice of Meeting

Notice is hereby given of a change in the meeting of the National Institute of Neurological Disorders and Stroke Special Emphasis Panel, which was published in the Federal Register on December 15, 2022, FR Doc. 2022-27290, 87 FR 77130.

This notice is being amended to change the format of this meeting from In-person to a Virtual Meeting. The previous meeting, NIH-ZNS1 SRB-P 09 was located at the Canopy by Hilton Washington DC Bethesda North, 940 Rose Avenue, North Bethesda, MD 20852. The meeting date and time remain the same. The meeting is closed to the public.

Dated: January 12, 2023.
Tyeshia M. Roberson-Curtis,
Program Analyst, Office of Federal Advisory Committee Policy.

[FR Doc. 2023-00867 Filed 1-17-23; 8:45 am]

BILLING CODE 4140-01-P